DEPARTMENT OF COMMERCE

International Trade Administration

[C-557-833]

Float Glass Products From Malaysia: Final Affirmative Countervailing Duty Determination

AGENCY: Enforcement and Compliance, International Trade Administration, Department of Commerce.

SUMMARY: The U.S. Department of Commerce (Commerce) determines that countervailable subsidies are being provided to producers and exporters of float glass products (float glass) from Malaysia. The period of investigation is January 1, 2023, through December 31, 2023.

DATES: Applicable February 9, 2026.

FOR FURTHER INFORMATION CONTACT: Mira Warrier or Benjamin Nathan, AD/CVD Operations, Office II, Enforcement and Compliance, International Trade Administration, U.S. Department of Commerce, 1401 Constitution Avenue NW, Washington, DC 20230; telephone: (202) 482-8031 or (202) 482-3834, respectively.

SUPPLEMENTARY INFORMATION:

Background

On May 19, 2025, Commerce published the Preliminary Determination in the Federal Register and invited interested parties to comment.¹ In accordance with section 705(a)(1) of the Tariff Act of 1930, as amended (the Act), and 19 CFR 351.210(b)(4), Commerce aligned the final countervailing duty (CVD) determination with the final determination in the less-than-fair-value (LTFV) investigation of float glass products from Malaysia.²

¹ See Float Glass Products from Malaysia: Preliminary Affirmative Countervailing Duty Determination and Alignment of Final Determination with Final Antidumping Duty Determination, 90 FR 21278 (May 19, 2025) (Preliminary Determination), and accompanying Preliminary Decision Memorandum (PDM).

² See Preliminary Determination, 90 FR at 21279.

Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for this final determination is now February 3, 2026.

³ See Memorandum, “Deadlines Affected by the Shutdown of the Federal Government,” dated November 14, 2025.

⁴ See Memorandum, “Tolling of all Case Deadlines,” dated November 24, 2025.

For a complete description of the events that followed the initiation of this investigation, see the Issues and Decision Memorandum.⁵ A list of topics discussed in the Issues and Decision Memorandum is included as Appendix II to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Issues and Decision Memorandum for the Final Affirmative Determination of the Countervailing Duty Investigation of Float Glass Products from Malaysia,” dated concurrently with, and hereby adopted by, this notice (Issues and Decision Memorandum).

Scope of the Investigation

The products covered by this investigation are float glass products from Malaysia. For a complete description of the scope of this investigation, see Appendix I.

Scope Comments

In the Preliminary Scope Memorandum, we set aside a period of time for parties to raise issues regarding product coverage (i.e., scope) in scope-specific case briefs or other written comments.⁶ We received scope case and rebuttal briefs from multiple interested parties. For a summary of the product coverage comments and rebuttal responses submitted to the record for this final determination, and accompanying discussion and analysis of all comments timely received, see the Final Scope Memorandum.⁷ In this final determination, Commerce modified the scope language used in the Preliminary Determination by adding certain Harmonized Tariff Schedule of the United States subheadings to the scope.⁸ See Appendix I.

⁶ See Memorandum, “Float Glass Products from the People's Republic of China and Malaysia: Scope Comments Decision Memorandum for the Preliminary Determinations,” dated July 9, 2025 (Preliminary Scope Memorandum).

⁷ See Memorandum, “Float Glass Products from the People's Republic of China and Malaysia: Scope Comments Decision Memorandum for the Final Determinations,” dated concurrently with this notice (Final Scope Memorandum).

⁸ Id.

Verification

As provided in section 782(i) of the Act, in June 2025, Commerce conducted verification of the information relied upon in making our final determination in this investigation. Specifically, we conducted on-site verifications of the subsidy information reported by Jinjing Technology Malaysia Sdn Bhd (Jinjing Malaysia), and Xinyi Energy Smart (Malaysia) Sdn. Bhd (Xinyi Malaysia) using standard verification procedures and original source documents.⁹

⁹ See Memoranda “Verification of the Questionnaire Responses of Verification of the Questionnaire Responses of Jinjing Technology Malaysia Sdn Bhd.,” dated July 21, 2025 (Jinjing Malaysia Verification Report); see also “Verification of the Questionnaire Responses of Verification of the Questionnaire Responses of Xinyi Energy Smart (Malaysia) Sdn. Bhd.,” dated July 21, 2025 (Xinyi Malaysia Verification Report).

Analysis of Subsidy Programs and Comments Received

The subsidy programs under investigation, and the issues raised in the case and rebuttal briefs by parties in this investigation, are discussed in the Issues and Decision Memorandum. For a list of the issues raised by parties, and to which we responded in the Issues and Decision Memorandum, see Appendix II.

Changes Since the Preliminary Determination

Based on our review and analysis of the information received during verification and comments received from parties, for this final determination, we made certain changes to the countervailable subsidy rate calculations for Jinjing Malaysia, Xinyi Malaysia, and for all other producers/exporters. For a discussion of these changes, see the Issues and Decision Memorandum.

Methodology

Commerce conducted this investigation in accordance with section 701 of the Act. For each of the subsidy programs found countervailable, Commerce determines that there is a subsidy, i.e., a financial contribution by an “authority” that gives rise to a benefit to the recipient, and that the subsidy is specific.¹⁰ For a full description of the methodology underlying our final determination, see the Issues and Decision Memorandum.

¹⁰ See sections 771(5)(B) and (D) of the Act regarding financial contribution; section 771(5)(E) of the Act regarding benefit; and section 771(5A) of the Act regarding specificity.

In making this final determination, Commerce relied, in part, on facts available, including adverse facts available (AFA), pursuant to sections 776(a) and (b) of the Act. For a full discussion of our application of AFA, see the section “Use of Facts Otherwise Available and Application of Adverse Inferences” in the accompanying Issues and Decision Memorandum.

All-Others Rate

Section 705(c)(5)(A) of the Act provides that in a final determination, Commerce shall determine an estimated all-others rate for companies not individually examined equal to the weighted average of the estimated countervailable subsidy rates established for exporters and producers individually examined, excluding any zero or de minimis countervailable subsidy rates and any rates based entirely under section 776 of the Act.

In this investigation, Commerce calculated total subsidy rates for Jinjing Malaysia and Xinyi Malaysia that are not zero, de minimis, or based entirely on the facts otherwise available. Commerce calculated the all-others rate using a weighted average of the individual estimated subsidy rates calculated for the examined respondents using each company's publicly-ranged values for the subject merchandise.¹¹

¹¹ With two respondents under examination, Commerce normally calculates: (A) a weighted-average of the estimated subsidy rates calculated for the examined respondents; (B) a simple average of the estimated subsidy rates calculated for the examined respondents; and (C) a weighted-average of the estimated subsidy rates calculated for the examined respondents using each company's publicly-ranged U.S. sale values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. As complete publicly ranged sales data were available, Commerce based the all-others rate on the publicly ranged sales data of the mandatory respondents. For a complete analysis of the data, see Memorandum, “Calculation of Subsidy Rate for All Others,” dated concurrently with this notice.

Final Determination

Commerce determines that the following estimated countervailable subsidy rates exist for the period January 1, 2023, through December 31, 2023:

Company | Subsidy rate (percent ad valorem)
Jinjing Technology Malaysia Sdn. Bhd ¹² | 17.25
Xinyi Energy Smart (M) Sdn. Bhd ¹³ | 28.45
NSG (Malaysian Sheet Glass) | * 101.99
All Others | 27.32
* Rate based on facts available with adverse inferences.

Disclosure

¹² As discussed in the Preliminary Decision Memorandum, Commerce has found the following company to be cross-owned with Jinjing Malaysia: Jinjing Silicon Technology Sdn. Bhd. See Preliminary Determination PDM at 18.

¹³ As discussed in the Preliminary Decision Memorandum, Commerce has found the following company to be cross-owned with Xinyi Malaysia: Xin Yun Logistics (Malaysia) Sdn. Bhd. See Preliminary Determination PDM at 18-19.

Commerce intends to disclose to interested parties the calculations performed in connection with this final determination within five days of its public announcement or, if there is no public announcement, within five days of the date of publication of this notice in the Federal Register, in accordance with 19 CFR 351.224(b).

Suspension of Liquidation

As a result of our Preliminary Determination, and pursuant to sections 703(d)(1)(B) and (d)(2) of the Act, we instructed U.S. Customs and Border Protection (CBP) to collect cash deposits and suspend liquidation of entries of subject merchandise from Malaysia that were entered, or withdrawn from warehouse, for consumption, on or after May 19, 2025, the date of the publication of the Preliminary Determination in the Federal Register.¹⁴ In accordance with section 703(d) of the Act, we instructed CBP to discontinue the suspension of liquidation of all entries of subject merchandise entered or withdrawn from warehouse, on or after September 16, 2025, but to continue the suspension of liquidation of all entries of subject merchandise between May 19, 2025, and September 15, 2025. If the U.S. International Trade Commission (ITC) issues a final affirmative injury determination, we will issue a CVD order, reinstate the suspension of liquidation under section 706(a) of the Act, and require a cash deposit of estimated countervailing duties for entries of subject merchandise in the amounts indicated above, in accordance with section 706(a) of the Act.

¹⁴ See Preliminary Determination, 90 FR at 21279.

U.S. International Trade Commission (ITC) Notification

In accordance with section 705(d) of the Act, Commerce will notify the ITC of its final affirmative determination that countervailable subsidies are being provided to producers and exporters of float glass products from Malaysia. As Commerce's final determination is affirmative, in accordance with section 705(b) of the Act, the ITC will determine, within 45 days, whether the domestic industry in the United States is materially injured, or threatened with material injury, by reason of imports of float glass from Malaysia. In addition, we are making available to the ITC all nonprivileged and non-proprietary information in our files, provided the ITC confirms that it will not disclose such information, either publicly or under administrative protective order (APO), without the written consent of the Assistant Secretary for Enforcement and Compliance.

If the ITC determines that material injury or threat of material injury does not exist, this proceeding will be terminated and all cash deposits will be refunded. If the ITC determines that such injury does exist, Commerce will issue a CVD order directing CBP to assess, upon further instruction by Commerce, countervailing duties on all imports of the subject merchandise that are entered, or withdrawn, for consumption on or after the effective date of the suspension of liquidation, as discussed above in the “Suspension of Liquidation” section.

Administrative Protective Order

This notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: February 3, 2026.
Christopher Abbott,
Deputy Assistant Secretary for Policy and Negotiations, performing the non-exclusive functions and duties of the Assistant Secretary for Enforcement and Compliance.

Appendix I

Scope of the Investigation

The scope of this investigation covers float glass products (FGP), which are articles of soda-lime-silica glass that are manufactured by floating a continuous strip of molten glass over a smooth bath of tin (or another liquid metal with a density greater than molten glass), cooling the glass in an annealing lehr, and cutting it to appropriate dimensions. For purposes of the investigation, float glass products have an actual thickness of at least 2.0 mm (0.0787 inches) and an actual surface area of at least 0.37 square meters (4.0 square feet).

The country of origin of each float glass product is determined by the location where the soda-lime-silica glass is first manufactured by floating a continuous strip of molten glass over a smooth bath of tin and cooling the glass in an annealing lehr, regardless of the location of any downstream finishing or fabrication operations.

Prior to being subjected to further treatment, finishing, or fabrication, float glass products meet the requirements of Type I under ASTM-C1036 of the American Society for Testing and Materials (ASTM).

Float glass products may be clear, stained, tinted, or coated with one or more materials. Examples of coated float glass products include Low-E architectural glass (i.e., glass with a low emissivity coating to limit the penetration of radiant heat energy) and frameless mirrors (i.e., flat glass with a silver, aluminum, or other reflective layer) such as mirror stock sheet.

Float glass products may be annealed, chemically strengthened, heat strengthened, or tempered to achieve a desired surface compression, pursuant to ASTM-C1048, ASTM-C1422/C1422M, or other similar specifications.

Float glass products include tub and shower enclosures (i.e., doors and panels) made of tempered glass, which may be sold with attached or unattached hardware. In such cases, the scope covers only the tempered glass, to the exclusion of any non-glass hardware.

The only float glass product assemblies included within the scope are: (1) articles consisting of two of more sheets of float glass that are bonded together using a polymer interlayer (i.e., laminated glass); (2) insulating glass units (IGUs), which consist of two or more sheets of float glass separated by a spacer material and hermetically sealed together at the edge in order to create a thermal barrier using air or one or more gases but excluding any non-float glass components (other than the spacer and insulating materials) that may be mounted within the space between sheets of float glass (e.g., blinds, wrought iron cores, and camed patterned glass), as such non-float glass components are deemed outside the scope and not subject to duties; and (3) LED mirrors (i.e., float glass mirrors with one or more light-emitting diodes attached to or integrated with the mirror, as well as framed float glass mirrors with one or more light-emitting diodes attached to or integrated with the mirror or the mirror frame, but without other electronic functionality such as digital or video displays or audio circuitry).

Float glass products covered by the scope may meet one or more of the ASTM-C162, ASTM-C1036, ASTM-C1048, ASTM-C1172, ASTM-C1349, ASTM-C1376, ASTM-C1422/C1422M, ASTM-C1464, ASTM-C1503, ASTM-C1651, ASTM-E1300, and ASTM-E2190 specifications, definitions, and/or standards.

Float glass products may be further worked, including, but not limited to, operations such as: cutting; beveling; edging; notching; drilling; etching; bending; curving; chipping; embossing; engraving; surface grinding; or polishing; and sandblasting (i.e., using high velocity air to stream abrasive particles and thereby impart a frosted aesthetic to the glass surface). A float glass product which undergoes further work remains within the scope so long as the soda-lime-silica glass originally satisfied the requirements of ASTM-C1036 Type I and was first manufactured in a subject country, regardless of where it is further worked.

Excluded from the scope are: (1) wired glass (i.e., glass with a layer of wire mesh embedded within); (2) patterned flat glass (i.e., rolled glass with a pattern impressed on one or both sides) meeting the requirements of Type II under ASTM-C1036, including greenhouse glass and patterned solar glass (i.e., photovoltaic glass with a textured surface); (3) safety glazing materials for vehicles certified to American National Standards Institute (ANSI) Standard Z26.1; (4) vacuum insulating glass (VIG) units, which consist of two or more sheets of float glass separated by a spacer material, with at least one hermetically sealed compartment that uses a gas-free vacuum as a thermal barrier; (5) framed mirrors without any LEDs integrated with the mirror or the mirror frame; (6) unframed “over-the-door” mirrors that are ready for use as imported without undergoing after importation any processing, finishing, or fabrication; and (7) heat-strengthened washing machine lid glass with an actual surface area less than 6.0 square feet (0.56 square meters).

Also excluded from the scope of the investigation are: (1) soda-lime-silica glass containing less than 0.01 percent iron oxide by weight, annealed with a surface compression less than 3,500 pounds per square inch (PSI), having a transparent conductive oxide base coating (e.g., tin oxide), and with an actual thickness less than or equal to 4.0 mm (0.1575 inches) (i.e., “coated solar glass”); and (2) heat treated soda-lime-silica glass with a surface compression between 3,500 and 10,000 PSI, containing two or more drilled holes, and having an actual thickness less than 2.5 mm (0.0984 inches) (i.e., “clear back solar glass”). Solar glass products (also known as photovoltaic glass) are designed to facilitate the conversion of solar energy into electricity.

Also excluded are metal-camed glass products (i.e., panels of glass joined together with metal banding) where the constituent glass panels would otherwise be excluded by reason of their size (e.g., an actual surface area less than 0.37 square meters, or 4.0 square feet) and/or by reason of consisting of patterned flat glass (i.e., rolled glass with a pattern impressed on one or both sides) meeting the requirements of Type II under ASTM-C1036.

Also excluded from the scope of the investigation are any products already covered by the scope of any extant antidumping and/or countervailing duty orders, including Aluminum Extrusions from the People's Republic of China: Antidumping Duty Order, 76 FR 30650 (May 26, 2011), and Aluminum Extrusions from the People's Republic of China: Countervailing Duty Order, 76 FR 30653 (May 26, 2011).

The products subject to the investigation are currently classifiable under subheadings 7005.10.8000, 7005.21.1010, 7005.21.1030, 7005.21.2000, 7005.29.1810, 7005.29.1850, 7005.29.2500, 7007.29.0000, 7008.00.0000, 7009.91.5010, 7009.91.5095, and 7009.92.5010 of the Harmonized Tariff Schedule of the United States (HTSUS). Products subject to the investigation may also enter under HTSUS subheadings 7006.00.4010, 7006.00.4050, 7007.19.0000, 7013.99.2000, 7013.99.9090, 7610.10.0030, and 7610.90.0080. Although the HTSUS subheadings are provided for convenience and customs purposes, the written description of the scope of the investigation is dispositive.

Appendix II

List of Topics Discussed in the Preliminary Decision Memorandum

I. Summary

II. Background

III. Changes Since the Preliminary Determination

IV. Calculations of the All-Others Rate

V. Use of Facts Otherwise Available and Adverse Inferences

VI. Subsidies Valuation

VII. Analysis of Programs

VIII. Discussion of the Issues

Comment 1: Whether Commerce has the Legal Authority to Investigate Transnational Subsidies

Comment 2: Whether Commerce's Determination on Policy Lending from Chinese Banks for BRI Capacity Cooperation Projects Is Lawful

Comment 3: Whether Commerce Should Correct the Benchmark Selection for “Basic Fee: Maximum Demand”

Comment 4: Whether Commerce Should Correct the Land Area and Conversion Errors in Subsidy Calculations

Comment 5: Whether Commerce Should Correct the Denominator Used in Calculating the Investment Tax Allowance (ITA) Subsidy Rate

Comment 6: Whether to Apply Adverse Facts Available (AFA) with Respect to Xinyi Malaysia's Failure to Provide Requested Information Concerning the Exemption of Import Duties and Sales Taxes for Imported Raw Materials, Machinery, Equipment, and Spare Parts/Accessories (Import Duties and Sales Taxes) Program

Comment 7: Whether Commerce Erred in its Land Benchmark Construction

IX. Recommendation

[FR Doc. 2026-02491 Filed 2-6-26; 8:45 am]

BILLING CODE 3510-DS-P